DEPARTMENT OF COMMERCE

National Oceanic and Atmospheric Administration

RIN 0648-XE178

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Observer Policy Committee meeting to consider actions affecting New England fisheries in the exclusive economic zone (EEZ). Recommendations from this group will be brought to the full Council for formal consideration and action, if appropriate.

DATES: This meeting will be held on Monday, September 28, 2015 at 1 p.m.

ADDRESSES: The meeting will be held at the Radisson Hotel, 180 Water Street, Plymouth, MA 02360; telephone: (508) 747-4900; fax: (508) 747-8937.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review draft Environmental Assessment (EA) for NMFS-led omnibus amendment, which would establish provisions for industry-funded monitoring (IFM) across all New England and Mid-Atlantic Council-managed fisheries and also proposes requirements for IFM in the Atlantic herring and mackerel fisheries. The Committee will also review/discuss omnibus alternatives in the IFM amendment and options for IFM in the Atlantic herring and mackerel fisheries; herring/mackerel options may include requirements for industry-funded observer coverage, at-sea monitoring, portside sampling, and/or electronic monitoring (EM) as well as develop recommendations regarding any additional management measures to be considered in the omnibus IFM amendment. They will also develop recommendations regarding the selection of preferred alternatives for the omnibus IFM amendment and the approval of the Draft EA for public comment. The Committee may address other business as necessary.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: September 8, 2015.
Tracey L. Thompson,
Acting Deputy Director, Office of Sustainable Fisheries, National Marine Fisheries Service.

[FR Doc. 2015-22936 Filed 9-10-15; 8:45 am]

BILLING CODE 3510-22-P